SOCIAL SECURITY ADMINISTRATION

Agency Information Collection Activities: Proposed Request

The Social Security Administration (SSA) publishes a list of information collection packages requiring clearance by the Office of Management and Budget (OMB) in compliance with Public Law (Pub. L.) 104-13, the Paperwork Reduction Act of 1995, effective October 1, 1995. This notice includes revisions to OMB-approved information collections.

SSA is soliciting comments on the accuracy of the agency's burden estimate; the need for the information; its practical utility; ways to enhance its quality, utility, and clarity; and ways to minimize the burden on respondents, including the use of automated collection techniques or other forms of information technology. Mail, email, or fax your comments and recommendations on the information collection(s) to the OMB Desk Officer and the SSA Director for Reports Clearance to the addresses or fax numbers shown below.

(OMB)

Office of Management and Budget, Attn: Desk Officer for SSA, Fax: 202-395-6974, E-mail address: OIRA_Submission@omb.oep.gov.

(SSA)

Social Security Administration, DCBFM, Attn: Director, Center for Reports Clearance, 1333 Annex Building, 6401 Security Blvd., Baltimore, MD 21235, Fax: 410-965-0454, E-mail address: OPLM.RCO@ssa.gov.

The information collections below are pending at SSA. SSA will submit them to OMB within 60 days from the date of this notice. To be sure we consider your comments, we must receive them no later than January 19, 2010. Individuals can obtain copies of the collection instruments by calling the SSA Director for Reports Clearance at 410-965-0454 or by writing to the above e-mail address.

1. Integrated Registration Services (IRES) System—20 CFR 401.45—0960-0626. The IRES system verifies the identity of individuals, businesses, organizations, entities, and government agencies that use SSA's eService Internet and telephone applications to request and exchange business data with SSA. Requestors provide SSA-required information to establish their identities. Once SSA verifies identity, IRES will issue the requestor a user identification number (User ID) and a password to conduct business with SSA. Respondents are employers and third party submitters of wage data, business entities providing taxpayer identification information, and data exchange partners conducting business in support of SSA programs. In this Information Collection Request (ICR), we are making revisions to IRES for certain applications.

Type of Request: Revision to an OMB-approved information collection.

Respondent types | Number of respondents | Average burden per response (minutes) | Estimated annual burden (hours)
Appointed Representatives Registering via Internet | 268,000 | 5 | 22,333
All Other Business Services Online (BSO) Respondents Registering via Internet | ,300,000 | 2 | 43,333
Appointed Representatives Registering via CSA Intranet | 88,000 | 11 | 16,133
All Other BSO Respondents Registering via CSA Intranet | 120,794 | 11 | 22,146
Total | 1,776,794 |  | 103,945

2. Request for Business Entity Taxpayer Information—0960-0731. SSA will use the information collected via an Internet application to register law firms or other business entities that wish to serve as appointed representatives and receive direct payment of fees from SSA for representing claimants before SSA. These entities will also be able to designate individuals as entity administrators, who they authorize to perform certain duties on behalf of the entities (such as providing bank account information, maintaining entity information, and updating individual affiliations). In addition, SSA will use the information to meet any requirement to issue a Form 1099-MISC to law firms or other business entities pursuant to sections 6041 and 6045(f) of the Internal Revenue Code. The respondents are law firms or other business entities that wish to serve as appointed representatives and receive direct payment of fees.

Type of Request: Revision to an OMB-approved information collection.

Number of Respondents: 8,000.

Frequency of Response: 1.

Average Burden Per Response: 20 minutes.

Estimated Annual Burden: 2,667 hours.

3. Appointed Representative Services—0960-0732. SSA uses Form SSA-1699 to register:

• Individuals appointed as representatives;

• Individuals who will perform advocacy services on behalf of an appointed representative;

• Individuals who will act on behalf of an appointed representative and want access to our electronic services; and

• Individuals who will serve as administrators for an entity appointed as a representative.

By registering these individuals, SSA: (1) Authenticates and authorizes them to do business with us; (2) allows them access to our records for the claimants they represent; (3) facilitates direct payment of authorized fees to appointed representatives; and (4) collects information needed to meet Internal Revenue Service (IRS) requirements to issue specific IRS forms, if we pay these representatives in excess of a specific amount.

This ICR is for changes we will implement to the collection in 2010. The respondents are appointed claimant representatives.

Type of Request: Revision to an OMB-approved information collection.

Modality of completion | Number of respondents | Frequency of response | Average burden per response (minutes) | Estimated annual burden (hours)
SSA-1699 (paper form) | 52,800 | 1 | 30 | 26,400
Internet-based SSA-1699 | 13,200 | 1 | 22 | 4,840
Totals | 66,000 |  |  | 31,240

Dated: November 10, 2009,
Elizabeth A. Davidson,
Director, Center for Reports Clearance Social Security Administration.

[FR Doc. E9-27509 Filed 11-16-09; 8:45 am]

BILLING CODE 4191-02-P